DEPARTMENT OF TRANSPORTATION

Federal Aviation Administration

14 CFR Part 71

[Docket No. FAA-2025-0400; Airspace Docket No. 25-AEA-4]

RIN 2120-AA66

Revocation of Class D and Class E4 Airspace; Establishment of Class E2 Airspace; Amendment of Class E5 Airspace, Aberdeen, MD

AGENCY: Federal Aviation Administration (FAA), DOT.

ACTION: Final rule.

SUMMARY: This action removes Class D and E4 airspace at Phillips Army Airfield (AAF), Aberdeen, MD, due to the closure of the air traffic control tower. This action establishes Class E2 airspace extending upward from the surface above Phillips AAF at the request of the United States Army to provide the required airspace for Instrument Flight Rules (IFR) operations at Phillips AAF. This action also amends Class E5 airspace to accommodate the decommissioning of the Aberdeen non-directional radio beacon (NDB) and cancellation of the associated instrument approach procedures. Controlled airspace is necessary for the safety and management of IFR operations in the area for existing instrument approaches.

DATES: Effective 0901 UTC, October 2, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours a day, 365 days a year.

FAA Order JO 7400.11J, Airspace Designations, and Reporting Points, as well as subsequent amendments, can be viewed online at www.faa.gov/air_traffic/publications/. For further information, you may also contact the Rules and Regulations Group, Policy Directorate, Federal Aviation Administration, 600 Independence Avenue SW, Washington, DC 20597; Telephone: (202) 267-8783.

FOR FURTHER INFORMATION CONTACT: Marc Ellerbee, Operations Support Group, Eastern Service Center, Federal Aviation Administration, 1701 Columbia Avenue, College Park, GA 30337; Telephone: (404) 305-5589.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority, as it removes Class D and E4, establishes Class E2, and amends Class E5 airspace in Aberdeen, MD.

History

The FAA published a notice of proposed rulemaking for Docket No. FAA 2025-0400 in the Federal Register (90 FR 14591; April 3, 2025), proposing to remove Class D and E4 airspace, establish Class E2 airspace extending upward from the surface, and amend Class E5 airspace at Phillips Army Airfield, Aberdeen, MD. Interested parties were invited to participate in this rulemaking effort by submitting written comments on the proposal to the FAA. No comments were received.

Changes From NPRM

An editorial change was made to remove the detailed airspace legal descriptions from the Aberdeen, MD, Class D and E4 airspace in this final rule. The inclusion of the detailed descriptions of the Aberdeen, MD, Class D and E4 airspace in the NPRM was unnecessary since they are being removed. This final rule lists only the bold headings for these airspace descriptions, with the instructions for them to be removed. As this constitutes a ministerial change that does not alter legal obligations associated with the airspace, good cause exists for not re-circulating the NPRM.

Incorporation by Reference

Class D and E airspace designations are published in paragraphs 5000, 6002, 6004, and 6005 of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J, which lists Class A, B, C, D, and E airspace areas, air traffic service routes, and reporting points, is publicly available as listed in the ADDRESSES section of this document.

The Rule

This action amends 14 CFR part 71 to remove Class D and E4 airspace, establish Class E2 airspace and amend Class E5 airspace for Phillips AAF, Aberdeen, MD.

This action removes the Class D and Class E4 airspaces extending upward from the surface above Phillips Army Airfield (AAF), Aberdeen, MD, as the air traffic control tower is permanently closed and no longer provides air traffic control services.

This action establishes Class E airspace extending upward from the surface that is required to support the existing RNAV approach servicing Phillips AAF and at the request of the United States Army. Controlled airspace is necessary for the safety and management of IFR operations for existing instrument approaches at Phillips AAF.

This action amends Class E5 airspace extending upward from 700 feet above the surface for Phillips AAF, Aberdeen, MD, to accommodate airspace reconfiguration due to the decommissioning of Aberdeen's non-directional radio beacon (NDB) and the associated cancellation of the NDB approaches. The reconfiguration removes the extension from the 8.3-mile radius of Phillips AAF extending clockwise from the 260° bearing to the 030° bearing from the airport leaving only the 6.9-mile radius Class E5 airspace that is required for existing approaches into Phillips AAF.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this proposed rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant the preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g), 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 5000 Class D Airspace.

* * * * *

AEA MD D Aberdeen, MD [Removed]

* * * * *

Paragraph 6004 Class E Airspace Areas Designated as an Extension to a Class D or Class E Surface Area.

* * * * *

AEA MD E4 Aberdeen, MD [Removed]

* * * * *

Paragraph 6002 Class E Airspace Areas Designated as Surface Areas.

* * * * *

AEA MD E2 Aberdeen, MD [New]

Phillips AAF, MD

(Lat. 39°27′56″ N, long. 76°10′06″ W)

That airspace extending upward from the surface within a 4.4-mile radius of Phillips AAF; excluding that airspace in Restricted Area R-4001A when it is in effect. This Class E airspace area is effective during the specific dates and times established in advance by a Notice to Airmen. The specific date and time will thereafter be continuously published in the Chart Supplement.

* * * * *

Paragraph 6005 Class E Airspace Areas Extending Upward From 700 Feet or More Above the Surface of the Earth.

* * * * *

AEA MD E5 Aberdeen, MD [Amended]

Phillips AAF, MD

(Lat. 39°27′56″ N, long. 76°10′06″ W)

That airspace extending upward from 700 feet above the surface within a 6.9-mile radius of Phillips AAF excluding the airspace in Restricted Areas R-4001A and R-4001B when they are in effect.

* * * * *

Issued in College Park, Georgia, on May 27, 2025.
Patrick Young,
Manager, Airspace & Procedures Team North, Eastern Service Center, Air Traffic Organization.

[FR Doc. 2025-09856 Filed 5-30-25; 8:45 am]

BILLING CODE 4910-13-P